DEPARTMENT OF HOMELAND SECURITY

Federal Emergency Management Agency

[Docket ID FEMA-2017-0002]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: March 21, 2017.
Roy E. Wright,
Deputy Associate Administrator for Insurance and Mitigation, Department of Homeland Security, Federal Emergency Management Agency.

State and county | Location and case No. | Chief executive officer of community | Community map repository | Effective date of modification | Community No.
Arizona:
Maricopa (FEMA Docket No.: B-1662) | City of Peoria (16-09-0861P) | The Honorable Cathy Carlat, Mayor, City of Peoria, 8401 West Monroe Street, Peoria, AZ 85345 | Engineering Department, 9875 North 85th Avenue, Peoria, AZ 85345 | Feb. 17, 2017 | 040050
Maricopa (FEMA Docket No.: B-1662) | City of Peoria (16-09-0867P) | The Honorable Cathy Carlat, Mayor, City of Peoria, 8401 West Monroe Street, Peoria, AZ 85345 | Engineering Department, 9875 North 85th Avenue, Peoria, AZ 85345 | Feb. 17, 2017 | 040050
Maricopa (FEMA Docket No.: B-1662) | City of Phoenix (15-09-2235P) | The Honorable Greg Stanton, Mayor, City of Phoenix, 200 West Washington Street, Phoenix, AZ 85003 | Street Transportation Department 200 West Washington Street, 5th Floor, Phoenix, AZ 85003 | Feb. 10, 2017 | 040051
Maricopa (FEMA Docket No.: B-1662) | Town of Gilbert (16-09-1926P) | The Honorable John Lewis, Mayor, Town of Gilbert, 50 East Civic Center Drive, Gilbert, AZ 85296 | Town Hall, 90 East Civic Center Drive, Gilbert, AZ 85296 | Feb. 17, 2017 | 040044
Maricopa (FEMA Docket No.: B-1662) | Unincorporated Areas of Maricopa County (15-09-2235P) | The Honorable Clint L. Hickman, Chairman, Board of Supervisors, Maricopa County, 301 West Jefferson Street 10th Floor, Phoenix, AZ 85003 | Flood Control District of Maricopa County, 2801 West Durango Street, Phoenix, AZ 85009 | Feb. 10, 2017 | 040037
Maricopa (FEMA Docket No.: B-1662) | Unincorporated Areas of Maricopa County (16-09-1926P) | The Honorable Clint L. Hickman, Chairman, Board of Supervisors, Maricopa County, 301 West Jefferson Street 10th Floor, Phoenix, AZ 85003 | Flood Control District of Maricopa County, 2801 West Durango Street, Phoenix, AZ 85009 | Feb. 17, 2017 | 040037
Pima (FEMA Docket No.: B-1662) | Unincorporated Areas of Pima County (16-09-1661P) | The Honorable Sharon Bronson, Chair, Board of Supervisors, Pima County, 130 West Congress Street, 11th Floor, Tucson, AZ 85701 | Pima County Regional Flood Control District, 201 North Stone Avenue, 9th Floor, Tucson, AZ 85701 | Feb. 3, 2017 | 040073
Yavapai (FEMA Docket No.: B-1662) | Town of Chino Valley (16-09-0142P) | The Honorable Chris Marley, Mayor, Town of Chino Valley, Town Hall, 202 North State, Route 89, Chino Valley, AZ 86323 | Public Works Department, 1982 Voss Drive, Chino Valley, AZ 86323 | Jan. 27, 2017 | 040094
California:
Santa Clara (FEMA Docket No.: B-1662) | City of San Jose (16-09-1141P) | The Honorable Sam Liccardo, Mayor, City of San Jose, 200 East Santa Clara Street, 18th Floor, San Jose, CA 95113 | Department of Public Works, 200 East Santa Clara Street, 3rd Floor, San Jose, CA 95113 | Jan. 19, 2017 | 060349
Yolo (FEMA Docket No.: B-1662) | Unincorporated Areas of Yolo County (16-09-2472P) | The Honorable Jim Provenza, Chairman, Board of Supervisors,Yolo County, 625 Court Street, Room 204, Woodland, CA 95695 | Department of Planning and Public Works, 292 West Beamer Street, Woodland, CA 95695 | Feb. 13, 2017 | 060423
Illinois:
Cass (FEMA Docket No.: B-1662) | Unincorporated Areas of Cass County (15-05-2462P) | The Honorable Dave Parish, Chairman, Cass County Board, 100 East Springfield Street, Virginia, IL 62691 | County Courthouse, 100 East Springfield Street, Virginia, IL 62691 | Jan. 27, 2017 | 170810
Cass (FEMA Docket No.: B-1662) | Village of Ashland (15-05-2462P) | The Honorable Terry S. Blakeman, Village President, Village of Ashland, 101 North Yates Street, Ashland, IL 62612 | Village Hall, 101 North Yates Street, Ashland, IL 62612 | Jan. 27, 2017 | 171025
Kane (FEMA Docket No.: B-1662) | Village of Campton Hills (16-05-6021P) | The Honorable Harry Blecker, Village President, Village of Campton Hills, 40W270 LaFox Road, Suite B, Campton Hills, IL 60175 | Village Hall, 40W270 LaFox Road, Suite B, Campton Hills, IL 60175 | Feb. 10, 2017 | 171396
Lake (FEMA Docket No.: B-1654) | Unincorporated Areas of Lake County (16-05-2755P) | The Honorable Aaron Lawlor, Chairman, Lake County Board, 18 North County Street, 10th Floor, Waukegan, IL 60085 | Central Permit Facility, 500 West Winchester Road, Unit 101, Libertyville, IL 60048 | Dec. 23, 2016 | 170357
Lake (FEMA Docket No.: B-1654) | Village of Lincolnshire (16-05-2755P) | The Honorable Elizabeth, Brandt, Mayor, Village of Lincolnshire, 1 Olde Half Day Road, Lincolnshire, IL 60069 | Village Hall, 1 Olde Half Day Road, Lincolnshire, IL 60069 | Dec. 23, 2016 | 170378
Lake (FEMA Docket No.: B-1654) | Village of Riverwoods (16-05-2755P) | The Honorable John Norris, Mayor, Village of Riverwoods, 300 Portwine Road, Riverwoods, IL 60015 | Village Hall, 300 Portwine Road, Riverwoods, IL 60015 | Dec. 23, 2016 | 170387
Kansas: Johnson (FEMA Docket No.: B-1662) | City of Overland Park (16-07-1180P) | The Honorable Carl Gerlach, Mayor, City of Overland Park, 8500 Santa Fe Drive, Overland Park, KS 66212 | City Hall, 8500 Santa Fe Drive, Overland Park, KS 66212 | Jan. 4, 2017 | 200174
Kentucky: Jefferson (FEMA Docket No.: B-1662) | Louisville-Jefferson County Metro Government (16-04-6581P) | The Honorable Greg Fischer, Mayor, Louisville-Jefferson County Metro, Metro Hall, 527 West Jefferson Street, 4th Floor, Louisville, KY 40202 | Louisville-Jefferson County Metropolitan Sewer District, 700 West Liberty Street, Louisville, KY 40203 | Jan. 9, 2017 | 210120
Missouri:
Greene (FEMA Docket No.: B-1662) | City of Springfield (16-07-1495P) | The Honorable Bob Stephens, Mayor, City of Springfield, City Hall, 840 Boonville Avenue, Springfield, MO 65802 | City Hall, 840 Boonville Avenue, Springfield, MO 65802 | Feb. 15, 2017 | 290149
Greene (FEMA Docket No.: B-1662) | Unincorporated Areas of Greene County (16-07-1495P) | Mr. Robert Cirtin, Greene County Presiding Commissioner, Greene County Commission Offices, 933 North Robberson Avenue, Springfield, MO 65802 | Greene County Courthouse, 840 Boonville Avenue, Springfield, MO 65802 | Feb. 15, 2017 | 290782
Nevada: Clark (FEMA Docket No.: B-1662) | Unincorporated Areas of Clark County (16-09-1844P) | The Honorable Steve Sisolak, Chairman, Board of Supervisors, Clark County, 500 South Grand Central Parkway, 6th Floor, Las Vegas, NV 89106 | Office of the Director of Public Works, 500 South Grand Central Parkway, Las Vegas, NV 89155 | Jan. 5, 2017 | 320003
New York: Suffolk (FEMA Docket No.: B-1662) | Town of Southold (16-02-1018P) | The Honorable Scott A. Russell, Town Supervisor, Town of Southold, 53095 Main Road, Southold, NY 11971 | Town Hall, 53095 Route 25, Southold, NY 11971 | Feb. 17, 2017 | 360813
Oregon:
Benton (FEMA Docket No.: B-1662) | City of Corvallis (16-10-0653P) | The Honorable Biff Traber, Mayor, City of Corvallis, 501 Southwest Madison Avenue, Corvallis, OR 97339 | Planning Department, 501 Southwest Madison Avenue, Corvallis, OR 97333 | Jan. 17, 2017 | 410009
Jackson (FEMA Docket No.: B-1662) | Unincorporated Areas of Jackson County (16-10-0825P) | The Honorable Rick Dyer, Commissioner, Jackson County, 10 South Oakdale Avenue, Room 214, Medford, OR 97501 | Jackson County Roads, Parks and Planning Services, 10 South Oakdale Avenue, Medford, OR 97501 | Dec. 27, 2016 | 415589
Texas:
Dallas (FEMA Docket No.: B-1662) | City of Mesquite (16-06-2265P) | The Honorable Stan Pickett, Mayor, City of Mesquite, 757 North Galloway Avenue, Mesquite, TX 75185 | City Engineering Services, 1515 North Galloway Avenue, Mesquite, TX 75185 | Jan. 5, 2017 | 485490
Travis (FEMA Docket No.: B-1662) | City of Manor (16-06-1785P) | The Honorable Rita G. Jonse, Mayor, City of Manor, 105 East Eggleston Street, Manor, TX 78653 | City Hall, 201 East Parson Street, Manor, TX 78653 | Jan. 9, 2017 | 481027
Travis (FEMA Docket No.: B-1662) | Unincorporated Areas of Travis County (16-06-1785P) | The Honorable Sarah Eckhardt, Travis County Judge, 700 Lavaca, Suite 2.300, Austin, TX 78767 | Transportation and Natural Resources, 700 Lavaca Street, 5th Floor, Austin, TX 78767 | Jan. 9, 2017 | 481026
Washington DC (FEMA Docket No.: B-1662) | District of Columbia (16-03-2068P) | The Honorable Muriel Bowser, Mayor, District of Columbia, John A. Wilson Building, 1350 Pennsylvania Avenue, Northwest, Suite 316, Washington, DC 20004 | Department of Environment, 51 North Street, Northeast, Suite 5020, Washington, DC 20002 | Feb. 9, 2017 | 110001
Wisconsin:
Dane (FEMA Docket No.: B-1662) | City of Monona (16-05-3951P) | The Honorable Bob Miller, Mayor, City of Monona, 5211 Schluter Road, Monona, WI 53716 | City Hall, 5211 Schluter Road, Monona, WI 53716 | Dec. 30, 2016 | 550088
Eau Claire (FEMA Docket No.: B-1662) | City of Eau Claire (16-05-5442P) | The Honorable Kerry Kincaid, President, City Council, 4441 South Lowes Creek Road, Eau Claire, WI 54701 | City Hall, 203 South Farwell Street, 3rd Floor, Eau Claire, WI 54701 | Feb. 14, 2017 | 550128
Jackson (FEMA Docket No.: B-1662) | Unincorporated Areas of Jackson County (16-05-4012P) | The Honorable Ray Ransom, Chairperson, Jackson County Board, Jackson County Courthouse, 307 Main Street, Black River Falls, WI 54615 | Jackson County Courthouse, 307 Main Street, Black River Falls, WI 54615 | Feb. 9, 2017 | 550583

[FR Doc. 2017-06676 Filed 4-4-17; 8:45 am]

BILLING CODE 9110-12-P